DEPARTMENT OF THE INTERIOR

National Park Service

[NPS-MWR-SLBE-13148; PPMWSLBES0-PPMPSPD1Z.YM0000]

Acceptance of Concurrent Jurisdiction

AGENCY: National Park Service, Interior.

ACTION: Notice of Concurrent Jurisdiction.

SUMMARY: On behalf of the United States, the National Park Service has accepted concurrent legislative jurisdiction from the State of Michigan over lands and waters administered by the National Park Service within the boundaries of Sleeping Bear Dunes National Lakeshore.

DATES: Effective Date: Concurrent legislative jurisdiction within Sleeping Bear Dunes National Lakeshore became effective on May 2, 2013.

FOR FURTHER INFORMATION CONTACT: Phil Akers, Chief Ranger, Sleeping Bear Dunes National Lakeshore, 9922 Front Street, Empire, Michigan 49630; telephone (231) 326-5135.

SUPPLEMENTARY INFORMATION: On May 2, 2013, acting in accordance with the provisions of 16 U.S.C. 1a-3, 40 U.S.C. 3112, and Michigan Compiled Laws 3.905 (2010), Jonathan B. Jarvis, Director of the National Park Service, accepted concurrent legislative jurisdiction from the Honorable Rick Snyder, Governor of the State of Michigan, over lands and waters administered by the National Park Service within the boundaries of Sleeping Bear Dunes National Lakeshore.

Dated: June 25, 2013.
Jonathan B. Jarvis,
Director, National Park Service.

[FR Doc. 2013-16458 Filed 7-8-13; 8:45 am]

BILLING CODE 4310-MA-P